DEPARTMENT OF THE TREASURY

Office of the Comptroller of the Currency

[OCC Charter Number 705852]

Sunshine State Federal Savings and Loan Association, Plant City, Florida; Approval of Conversion Application

Notice is hereby given that on May 14, 2014, the Office of the Comptroller of the Currency (OCC) approved the application of Sunshine State Federal Savings and Loan Association, Plant City, Florida, to convert to the stock form of organization. Copies of the application are available for inspection on the OCC Web site at the FOIA reading room https://foia-pal.occ.gov/palMain.aspx under Mutual to Stock Conversion Applications. If you have any questions, please contact OCC Licensing Activities at (202) 649-6260.

Dated: May 14, 2014.
By the Office of the Comptroller of the Currency.
Stephen A. Lybarger,
Deputy Comptroller for Licensing.

[FR Doc. 2014-13109 Filed 6-5-14; 8:45 am]

BILLING CODE 4810-33-P